DEPARTMENT OF VETERANS AFFAIRS

[OMB Control No. 2900-0771]

Agency Information Collection Under OMB Review: Insurance Customer Satisfaction Surveys

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 12, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0771” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0771” in any correspondence.

SUPPLEMENTARY INFORMATION:

Authority: Public Law 104-13; 44 U.S.C. 3501-3521.

Title: Insurance Customer Satisfaction Surveys.

OMB Control Number: 2900-0771.

Type of Review: Reinstatement of a previously approved collection.

Abstract: These surveys are used to solicit information that is needed to determine our customers level of satisfaction with existing services. The 10 surveys are: Beneficiary Survey, Cash Surrender Survey, Correspondence Survey, Insurance Claims Survey, Policy Loan Survey, Service-Disabled Veterans Insurance (SDVI) Survey, Waiver Survey, Veterans Mortgage Life Insurance (VMLI) Survey, Telephone Insurance Claims Survey, and Telephone Policy Survey.

The Federal Register Notice with a 60-day comment period soliciting comments on this collection of information was published at 82 FR 181 on September 20, 2017, page 44028.

Affected Public: Individuals and Households.

Estimated Annual Burden: 444 hours.

Estimated Average Burden per Respondent: 6 minutes.

Frequency of Response: One-time.

Estimated Number of Respondents: 4,440 respondents.

By direction of the Secretary:
Cynthia Harvey-Pryor,
Department Clearance Officer, Office of Quality, Privacy and Risk, Department of Veterans Affairs.

[FR Doc. 2018-02569 Filed 2-8-18; 8:45 am]

BILLING CODE 8320-01-P